DEPARTMENT OF THE INTERIOR

Geological Survey

Agency Information Collection Activities: Submitted for Office of Management and Budget (OMB) Review; Comment Request

AGENCY: U.S. Geological Survey (USGS), Interior.

ACTION: Notice; request for comments.

SUMMARY: To comply with the Paperwork Reduction Act of 1995 (PRA), we are notifying the public that we have submitted to OMB an information collection request (ICR) to renew approval of the paperwork requirements for the “North American Breeding Bird Survey.” This notice also provides the public a second opportunity to comment on the paperwork burden of this collection.

DATES: Submit written comments by June 23, 2008.

ADDRESSES: Please submit comments on this information collection directly to the Office of Management and Budget (OMB), Office of Information and Regulatory Affairs, Attention: Desk Officer for the Department of the Interior via e-mail: (OIRA_DOCKET@omb.eop.gov); or by fax (202) 395-6566; and identify your submission with #1028-0079.

Please also submit a copy of your comments to the Department of the Interior, USGS, via:

• E-mail: atravnic@usgs.gov. Use OMB Control Number 1028-0079 in the subject line.

• Fax: (703) 648-7069. Use OMB Control Number 1028-0079 in the subject line.

• Mail or hand-carry comments to the Department of the Interior; USGS Clearance Officer, U.S. Geological Survey, 807 National Center, Reston, VA 20192. Please reference OMB Control Number 1028-0079 in your comments.

FOR FURTHER INFORMATION CONTACT: Keith Pardieck at (301) 497-5843. Copies of the full Information Collection Request and the form can be obtained at no cost at http://www.reginfo.gov or by contacting the USGS clearance officer at the phone number listed below.

SUPPLEMENTARY INFORMATION:

Title: North American Breeding Bird Survey (BBS).

OMB Control Number: 1028-0079.

Bureau Form Number: None.

Type of Request: Extension of a currently approved collection.

Abstract: The BBS is a long-term, large-scale avian monitoring program to track the status and trends of North American bird population. Volunteers conduct avian point counts once per year during the breeding season (primarily June). Volunteers skilled in avian identification listen for 3 minutes at 50 stops along the route recording all birds seen or heard. Data are submitted electronically via the Internet or on hard copy. These data are used to estimate population trends and abundances at various geographic scales and assist with documenting species distribution.

Frequency: Annually.

Estimated Number and Description of Respondents: Approximately 2,500 volunteer respondents per year.

Estimated Number of Responses: 2,500.

Annual burden hours: 27,500.

Estimated Annual Reporting and Recordkeeping “Hour” Burden: We estimate the public reporting burden averages 11 hours per response. This includes the time for driving to/from the survey route locations and scouting route, 50 3-minute data collection periods (one at each sampling station along the route), data submission, and data verification.

Estimated Reporting and Recordkeeping “Non-Hour Cost” Burden: We estimate the total “nonhour” cost burden to be $126,250. This total includes costs of mileage for conducting the surveys.

Public Disclosure Statement: The PRA (44 U.S.C. 3501, et seq.) provides that an agency may not conduct or sponsor, and you are not required to respond to, a collection of information unless it displays a currently valid OMB control number. Until OMB approves a collection of information, you are not obligated to respond.

Comments: Before submitting an ICR to OMB, PRA section 3506(c)(2)(A) (44 U.S.C. 3501, et seq.) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 19, 2008, we published a Federal Register notice (73 FR 14832) announcing that we would submit this ICR to OMB for approval. The notice provided the required 60-day public comment period, which ended May 19, 2008. We received one comment. The commenter suggested that annual data collection was unnecessary and advocated estimating population size from year to year based upon the assumption that populations are declining 10 percent per year. Additional statements were not specifically relevant to the information collection requirements.

Response: Established in 1966, the BBS program has provided scientifically rigorous national estimates of relative abundance and population trends for hundreds of bird species for over four decades. The information collected by the BBS is central to nongame avian conservation and management efforts in North America, informing science-based avian conservation and management actions by Federal and State agencies and private entities. Analyses of BBS data have identified that not all bird species are declining. In fact, over 40 percent of the bird populations monitored by the BBS are increasing or are stable in numbers. Those that are decreasing are not necessarily decreasing throughout their entire ranges or by as much as 10 percent per year. Thus, through collection of actual population data annually, the BBS is able to identify species in areas most in need of intensive research and management efforts, allowing for efficient targeted use of Federal funds for species conservation and management efforts. The BBS also acts as an early warning system, identifying declining species long before they reach critically low levels. Finally, BBS data are collected by USGS volunteers highly skilled in avian identification making the BBS extremely cost-effective.

USGS Information Collection Clearance Officer: Alfred Travnicek, 703-648-7231.

Dated: May 20, 2008.
Susan D. Haseltine,
Associate Director for Biology.

[FR Doc. E8-11588 Filed 5-22-08; 8:45 am]

BILLING CODE 4311-AM-P